DEPARTMENT OF TRANSPORTATION

National Highway Traffic Safety Administration

[Docket No. NHTSA-2003-15470]

Reopening of Comment Period on Whether Nonconforming 2003 Mitsubishi Evolution VIII Left Hand Drive Passenger Cars Are Eligible for Importation

AGENCY: National Highway Traffic Safety Administration (NHTSA), DOT.

ACTION: Reopening of comment period.

SUMMARY: This document announces the reopening of the comment period on a petition for NHTSA to decide that 2003 Mitsubishi Evolution VIII left hand drive (LHD) passenger cars that were not originally manufactured to comply with all applicable Federal motor vehicle safety standards are eligible for importation into the United States.

DATES: The closing date for comments on the petition is August 6, 2003.

ADDRESSES: Comments are to be submitted to: Docket Management, Room PL-401, 400 Seventh Street, SW., Washington, DC 20590. [Docket hours are from 9 am to 5 pm]. Anyone is able to search the electronic form of all comments received into any of our dockets by the name of the individual submitting the document (or signing the comment, if submitted on behalf of an association, business, labor union, etc.). You may review DOT's complete Privacy Act Statement in the Federal Register published on April 11, 2000 (Volume 65, Number 70; Pages 19477-787) or you may visit http://dms.dot.gov.

FOR FURTHER INFORMATION CONTACT: Coleman Sachs, Office of Vehicle Safety Compliance, NHTSA (202-366-3151).

SUPPLEMENTARY INFORMATION: On June 30, 2003, NHTSA published a notice (at 68 FR 38750) that it had received a petition to decide that nonconforming 2003 Mitsubishi Evolution VIII LHD passenger cars are eligible for importation into the United States. The notice solicited public comments on the petition and stated that the closing date for comments is July 30, 2003.

This is to notify the public that NHTSA is reopening the comment period on this petition, and allowing it to run until August 6, 2003. This reopening is based on a request dated July 29, 2003, from Mitsubishi Motors North America, Inc. (“Mitsubishi”), the U.S. representative of the vehicle's manufacturer. Mitsubishi stated that the reopening was needed because it had yet to complete a technical analysis of the petition that it is conducting in Japan. Mitsubishi explained that its analysis has taken “longer than initially expected because there are a number of significant engineering issues raised by the petition's discussion of the steps required for modifying the nonconforming Mitsubishi Evolution VIII passenger cars to comply with all applicable Federal motor vehicle safety standards.” The company stated that “these engineering issues require careful analysis and comparison between conforming and nonconforming models.” The company also noted that it has recently retained outside counsel to assist in preparing its comments, and that “additional time has been needed both to familiarize counsel with the issues, to address issues raised by counsel, and to narrow the issues under review.” Mitsubishi requested that the comment period be reopened and allowed to run for a period of one week from the original closing date.

NHTSA has granted Mitsubishi's request. All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(B) and (b)(1); 49 CFR 593.8; delegations of authority at 49 CFR 1.50 and 501.8.

Kenneth N. Weinstein,
Associate Administrator for Enforcement.

[FR Doc. 03-20056 Filed 8-5-03; 8:45 am]

BILLING CODE 4910-59-P